DEPARTMENT OF THE INTERIOR

Bureau of Land Management

[MT-092-1430-EU; MTM-93473]

Notice of Realty Action; Competitive Sale of Public Land, Valley County; Montana

AGENCY: Bureau of Land Management, Interior.

ACTION: Notice.

SUMMARY: A 40-acre public parcel of land located east of Glasgow, Valley County, Montana, has been examined and found suitable for sale utilizing competitive sale procedures.

DATES: The lands will be segregated on the date of publication of this notice in the Federal Register. Comments are due in the Glasgow Field Station by June 5, 2006. The sale will be held at the Glasgow Field Station on September 14, 2006.

ADDRESSES: Bureau of Land Management, Glasgow Field Station, P.O. Box 871, 605 2nd Avenue South, Room 206, Glasgow, Montana 59230, 406-228-3750.

FOR FURTHER INFORMATION CONTACT: Information regarding the competitive sale instructions, procedures, documents, maps, and materials to submit a bid can be obtained at the public reception desk at the above address from 7:30 a.m. to 4 p.m., Monday through Friday (except Federal holidays), or by contacting John Fahlgren, at 406-228-3757, at the Glasgow Field Station. For general information on BLM's public land sale procedures, refer to the following Web address: http://www.blm.gov/nhp/what/lands/realty/sales.htm.

SUPPLEMENTARY INFORMATION: The following described parcel of public land is proposed for sale:

Principal Meridian, Montana

T. 29 N., R. 39 E., sec. 33, SW¼NE¼.

Containing 40 acres, more or less in Valley County.

The parcel will be offered through competitive sale pursuant to 43 CFR 2711.3-1. Authority for the sale is sections 203 and section 209 of the Federal Land Policy and Management Act of October 21, 1976 (43 U.S.C. 1701, 1713, 1719). This parcel of public land, east of Glasgow, Montana, is being offered for sale, using both sealed bid and oral bid procedures, at not less than the appraised fair market value of $26,000. The land is not required for Federal purposes and was identified for disposal in the Judith-Valley-Phillips Resource Management Plan approved in October 1992. The disposal (sale) of the parcel would serve the public benefit by making lands available for community expansion and private economic development. As such, these lands meet the criteria for sale under 43 CFR 2710.0-3(a)(2) and (3).

The land is located one mile northwest of Glasgow, Montana, and has physical and legal access via U.S. Highway 2 and a well maintained county roadway, Jensen Trail. Jensen Trail cuts through the property on a north-south axis, bisecting the property. The parcel consists of a flat ridge top giving way to a south facing slope, which levels slightly at its southern border. The vegetation on the property consists mostly of native grasses and shrubs, and there are a few cottonwood trees on the property. There is no running surface water on the property; however, there are several small draws that are no doubt active during spring run-off. Home development is currently on the property's east, south, and northeast borders.

Both sealed bids and oral bids will be accepted. All sealed bids must be received at the BLM, Glasgow Field Station (address stated above), not later than 4:30 p.m., MST, on the day prior to the sale or September 13, 2006. The outside of bid envelopes must be clearly marked on the front lower left-hand corner with “BLM Land Sale MT, MTM-93473,” and the bid opening date. Bids must be for not less than the appraised market value of $26,000. Each sealed bid shall be accompanied by a certified check, money order, bank draft, or cashier's check made payable to the Bureau of Land Management, for not less than 10 (ten) percent of the amount bid. The bid envelope must also contain a statement showing the total amount bid and the name, mailing address, and phone number of the entity making the bid.

Oral bidding on the date of the sale will begin at 1 p.m. at the Glasgow Field Station office at the highest qualified sealed bidder's offer. The highest qualifying oral bidder shall submit payment by cash, personal check, bank draft, money order, or any combination for not less than one-fifth of the amount of the bid immediately following the close of the sale. The successful bidder, whether such bid is a sealed or oral bid, shall submit the remainder of the full bid price prior to the expiration of 180 days from the date of the sale. Failure to submit the full bid price prior to the 180th day shall result in forfeiture of the deposit.

The BLM, in its sole discretion, reserves the right to: (1) Reject any bid; (2) ask for supplemental bids in the case of identical bids; (3) make minor exceptions to procedures to resolve administrative or other conflicts; and (4) withdraw the property from sale or postpone the sale due to protests, appeals, litigation, administrative, or other reasons.

If not sold, the parcel described above in this notice may be identified for sale on a continuing basis, by sealed bid, until sold.

Federal law requires bidders to be U.S. citizens 18 years of age or older, a corporation subject to the laws of any state or of the United States; a state, state instrumentality, or political subdivision authorized to hold property, or an entity including, but not limited to, associations or partnerships legally capable of holding property or interests therein under the laws of the State of Montana.

For a period until June 5, 2006, interested parties may submit comments to the Glasgow Field Station, P.O. Box 871, 605 2nd Avenue South, Room 206, Glasgow, Montana 59230. Any comments are to be in letter format to be addressed and mailed to John Fahlgren, Assistant Field Manager, Glasgow Field Station. Facsimiles, telephone calls, and e-mails are unacceptable means of notification. Comments including names and street addresses of respondents will be available for public review at the Glasgow Field Station during regular business hours, except holidays. Individual respondents may request confidentiality. If you wish to withhold your name or address from public disclosure under the Freedom of Information Act, you must state this prominently at the beginning of your comments. Such requests will be honored to the extent allowed by law. All submissions from organizations or businesses, will be made available for public inspection in their entirety.

Any adverse comments will be reviewed by the State Director, who may sustain, vacate, or modify this realty action and issue a final determination. In the absence of timely filed objections, this realty action will become the final determination of the Department of the Interior.

The publication of this notice of realty action shall segregate the public lands covered to the extent that they will not be subject to appropriation under the public land laws, including the mining laws. Any subsequent application shall not be accepted, shall not be considered as filed, and shall be returned to the applicant if the notice segregates the lands from the use applied for in the application. The segregative effect of the notice of realty action shall terminate upon issuance of patent or other document of conveyance to such lands, upon publication in the Federal Register of a termination of the segregation or 270 days from the date of publication, whichever occurs first. The patent will include the following reservations:

A right-of-way thereon for ditches and canals constructed by authority of the United States, Act of August 30, 1890 (43 U.S.C. 945) and will be subject to valid existing rights and the following encumbrances of record:

The conveyance will be subject to valid existing rights and the following encumbrances of record:

1. Those rights for an access road which have been granted to Valley County by right-of-way MTM-58710 under the Federal Land Policy and Management Act of 1976; and

2. Those rights for an electrical powerline which have been granted to Valley Electric Cooperative, Inc., right-of-way MTM-60025 under the Federal Land Policy and Management Act of 1976.

No warranty of any kind shall be given or implied as to the potential use of the land offered for sale. In the event of a sale, the unreserved mineral interests will be conveyed simultaneously with the sale of the land. The unreserved mineral interests have no known mineral value. Acceptance of the sale offer will constitute an application for conveyance of those unreserved mineral interests pursuant to section 209 of the Federal Land Policy and Management Act of 1976. The purchaser will be required to pay a $50.00 non-refundable filing fee for conveyance of the available mineral interests with the final payment.

The purchaser/patentee, by accepting patent, agrees to indemnify, defend, and hold the United States harmless from any costs, damages, claims, causes of action, penalties, fines, liabilities, and judgments of any kind arising from the past, present, or future acts or omissions of the patentee, its employees, agents, contractors, or lessees, or a third party arising out of, or in connection with, the patentee's use and/or occupancy of the patented real property resulting in: (1) Violations of Federal, state, and local laws and regulations that are now, or in the future become, applicable to the real property; (2) judgments, claims, or demands of any kind assessed against the United States; (3) costs, expenses, or damages of any kind incurred by the United States; (4) releases or threatened releases of solid or hazardous waste(s) and/or hazardous substance(s), as defined by Federal or state environmental laws, off, on, into, or under land, property, and other interests of the United States; (5) other activities by which solids or hazardous substances or wastes, as defined by Federal and state environmental laws are generated, released, stored, used, or otherwise disposed of on the patented real property, and any cleanup response, remedial action, or other actions related in any manner to said solid or hazardous substances or wastes; or (6) natural resource damages as defined by Federal and State law. This covenant shall be construed as running with the patented real property and may be enforced by the United States in a court of competent jurisdiction.

John Fahlgren,
Assistant Field Manager, Glasgow Field Station.

[FR Doc. E6-5954 Filed 4-20-06; 8:45 am]

BILLING CODE 4310-$$-P